DEPARTMENT OF TRANSPORTATION

Office of the Secretary

Aviation Proceedings, Agreements Filed the Week Ending April 9, 2004

The following agreements were filed with the Department of Transportation under the provisions of 49 U.S.C. 412 and 414. Answers may be filed within 21 days after the filing of the application.

Docket Number: OST-2004-17512.

Date Filed: April 7, 2004.

Parties: Members of the International Air Transport Association.

Subject: CAC/32/Meet/005/04 dated March 23, 2004; Expedited Resolutions; Resolutions 801re (r-1) and 809 (r2); Minutes relevant to the two resolutions are included in CAC/32/Meet/005/04; Intended effective date: expedited May 1, 2004.

Andrea M. Jenkins,
Program Manager, Docket Operations, Federal Register Liaison.

[FR Doc. 04-9059 Filed 4-20-04; 8:45 am]

BILLING CODE 4910-62-P